ENVIRONMENTAL PROTECTION AGENCY

[OEI-2005-0009; FRL-7952-6]

Office of Environmental Information; Announcement of Availability and Comment Period for Revised Chemical Identification and Latitude/Longitude Data Standards

AGENCY: Environmental Protection Agency.

ACTION: Notice of data availability and request for comment.

SUMMARY: Notice of availability for a 40 day review and comment period is hereby given for two revised data standards—(1) Chemical Identification Data Standard, and (2) Latitude/Longitude Data Standard.

The Chemical Identification Data Standard provides for the use of common identifiers for chemical substances regulated or monitored by environmental programs. The major revision to this standard is the inclusion of optional data element 2.15 “Chemical Preferred Acronym Name.” Use of the data element is not mandatory.

The Latitude/Longitude Data Standard is a set of data elements that can be used for recording horizontal and vertical coordinates and associated metadata that define a point on the earth. The major revision to this standard is a reformatting which includes all permitted value lists in appendices and the addition of more specific permitted values to data element 1.7 “Reference Point Code” and 1.8 “Reference Point Name.” The use of the more specific permitted values is not mandatory.

FOR FURTHER INFORMATION CONTACT: Linda Spencer; Environmental Protection Agency, 1200 Pennsylvania Avenue, NW., MC 2822T, Washington, DC 20460; phone: 202-566-1651; Fax: 202-566-1624; e-mail: Spencer.linda@epa.gov.

DATES: Comments must be submitted on or before September 23, 2005.

SUPPLEMENTARY INFORMATION: The standards are comprised of data elements, formats, and definitions. Each standard document provides an overview diagram that depicts the organization of the standard. These standards were developed and revised by the Environmental Data Standards Council (EDSC). The EDSC is a partnership of among EPA, States, and Tribes which promotes the efficient sharing of environmental information through the cooperative development of data standards.

The standards are intended for use in environmental data exchanges among States, Tribal entities and the U.S. EPA. They are not meant to dictate or to limit data an agency chooses to collect for its own internal purposes. Changes in data standards should not be interpreted to mean that revisions to databases or information systems are required. What they do mean is that formats for sharing data with Exchange Network (EN) partners will change because the Exchange Network has adopted Shared Schema Components based on the data standards. The SSCs are available on the Exchange Network Web site at http://www.exchangenetwork.net.

The draft data standards documents can be found on EDSC's Web site at http://www.envdatastandards.net/ and are available through the Docket system as indicated below.

I. General Information

A. How Can I Get Copies of These Documents and Other Related Information?

1. Docket. EPA has established an official public docket for this action under Docket ID No. OEI-2005-0009. The official public docket is the collection of materials that is available for public viewing at the OEI Docket in the EPA Docket Center, (EPA/DC) EPA West, Room B102, 1301 Constitution Ave., NW., Washington, DC. The EPA Docket Center Public Reading Room is open from 8:30 a.m. to 4:30 p.m., Monday through Friday, excluding legal holidays. The telephone number for the Public Reading Room is (202) 566-1744, and the telephone number for the OEI Docket is (202) 566-1752.

2. Electronic Access. You may access this Federal Register document electronically through the EPA Internet under the Federal Register listings at http://www.epa.gov/fedrgstr/.

An electronic version of the public docket is available through EPA's electronic public docket and comment system, EPA Dockets. You may use EPA Dockets at http://www.epa.gov/edocket/ to view public comments, access the index listing of the contents of the official public docket, and to access those documents in the public docket that are available electronically. Although not all docket materials may be available electronically, you may still access any of the publicly available docket materials through the docket facility identified in Unit I.B. Once in the system, select “search,” then key in the appropriate docket identification number.

Dated: August 9, 2005.
Oscar Morales,
Director, Collection Strategies Division, Office of Information Collection, U.S. Environmental Protection Agency.

[FR Doc. 05-16114 Filed 8-18-05; 8:45 am]

BILLING CODE 6560-50-P